DEPARTMENT OF TRANSPORTATION

Federal Aviation Administration

14 CFR Part 71

[Docket No. FAA-2018-0699; Airspace Docket No. 18-ASW-11]

RIN 2120-AA66

Amendment of Class D and E Airspace and Revocation of Class E Airspace; Fayetteville, AR

AGENCY: Federal Aviation Administration (FAA), DOT.

ACTION: Final rule.

SUMMARY: This action modifies Class D airspace and Class E airspace designated as a surface area, and removes Class E airspace designated as an extension to a Class D and Class E airspace at Drake Field, Fayetteville, AR. This action is due to the decommissioning of the Drake VHF omnidirectional range (VOR) navigation aid, which provided navigation information for the instrument procedures at this airport, as part of the VOR Minimum Operational Network (MON) Program. The geographic coordinates of the airport are also updated to coincide with the FAA's aeronautical database. Airspace redesign is necessary to support instrument flight rule (IFR) operations at this airport.

DATES: Effective 0901 UTC, February 28, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D airspace and Class E airspace designated as a surface area, and removes Class E airspace designated as an extension to a Class D and Class E airspace at Drake Field, Fayetteville, AR, to support IFR operations at this airport.

History

The FAA published a notice of proposed rulemaking (NPRM) in the Federal Register (83 FR 47585; September 20, 2018) for Docket No. FAA-2018-0699 to amend Class D airspace and Class E airspace designated as a surface area, and remove Class E airspace designated as an extension to a Class D and Class E airspace at Drake Field, Fayetteville, AR. Interested parties were invited to participate in this rulemaking effort by submitting written comments on the proposal to the FAA. No comments were received.

Subsequent to publication, the FAA found a typographic error in the airspace legal description for the Class D airspace and Class E airspace designated as a surface area in the extension from the Drake Field: RWY 34-LOC. “Sided” should have been “side”. This typographical error is corrected in this rule.

Class D and E airspace designations are published in paragraphs 5000, 6002, and 6004, respectively, of FAA Order 7400.11C, dated August 13, 2018, and effective September 15, 2018, which is incorporated by reference in 14 CFR 71.1. The Class D and E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This rule amends Title 14 Code of Federal Regulations (14 CFR) part 71 by: Amending the Class D airspace at Drake Field, Fayetteville, AR, to within a 4-mile radius (decreased from a 4.1-mile radius); and adding an extension 1.1 miles each side of the 181° bearing from the airport from the 4-mile radius to 5.9 miles north of the airport, and adding an extension 1 mile each side of the 172° bearing from the Drake Field: RWY 34-LOC from the 4-mile radius to 4.9 miles south of the Drake Field: RWY 34-LOC; and adding an extension 1 mile each side of the 347° bearing from the airport from the 4-mile radius to 4.9 miles north the airport. The city associated with the airport is removed from the airspace legal description to comply with a change to FAA Order 7400.2L, Procedures for Handling Airspace Matters, and the outdated term “Airport/Facility Directory” is updated to “Chart Supplement.” Additionally, the geographic coordinates of the airport are updated to coincide with the FAA's aeronautical database.

Amending the Class E airspace designated as a surface area at Drake Field to within a 4-mile radius (decreased from a 4.1-mile radius); and extending the airspace up to and including 3,800 feet MSL; and adding an extension 1.1 miles each side of the 181° bearing from the airport from the 4-mile radius to 5.9 miles south of the airport, and adding an extension 1 mile each side of the 172° bearing from the Drake Field: RWY 34-LOC from the 4-mile radius to 4.9 miles south of the Drake Field: RWY 34-LOC; and adding an extension 1 mile each side of the 347° bearing from the airport from the 4-mile radius to 4.9 miles north of the airport. The city associated with the airport is removed from the airspace legal description to comply with a change to FAA Order 7400.2L, and the outdated term “Airport/Facility Directory” is updated to “Chart Supplement.” Additionally, the geographic coordinates of the airport are updated to coincide with the FAA's aeronautical database.

And removing the Class E airspace designated as an extension to Class D and Class E at Drake Field as it is no longer required.

The typographical error in the airspace legal description for the Class D airspace and Class E airspace designated as a surface area in the extension from the Drake Field: RWY 34-LOC changing “sided” to “side” is corrected in this rule. Except for this change, this rule is the same as published in the NPRM.

This action as the result of an airspace review caused by the decommissioning of the Drake VOR, which provided navigation information for the instrument procedures at this airport, as part of the VOR MON Program.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ASW AR D Fayetteville, AR [Amended]

Drake Field, AR

(Lat. 36°00′18″ N, long. 94°10′12″ W)

Drake Field: RWY 34-LOC

(Lat. 36°00′26″ N, long. 94°10′10″ W)

That airspace extending upward from the surface to and including 3,800 feet MSL within a 4-mile radius of Drake Field, and within 1.1 miles each side of the 181° bearing from the airport from the 4-mile radius to 5.9 miles south of the airport, and within 1 mile each side of the 172° bearing from the Drake Field: RWY 34-LOC from the 4-mile radius to 4.9 miles south of the Drake Field: RWY 34-LOC, and within 1 mile each side of the 347° bearing from the airport from the 4-mile radius to 4.9 miles north of the airport. This Class D airspace area is effective during the specific dates and times established in advance by a Notice to Airmen. The effective date and time will thereafter be continuously published in the Chart Supplement.

Paragraph 6002 Class E Airspace Areas Designated as Surface Areas.

* * * * *

ASW AR E2 Fayetteville, AR [Amended]

Drake Field, AR

(Lat. 36°00′18″ N, long. 94°10′12″ W)

Drake Field: RWY 34-LOC

(Lat. 36°00′26″ N, long. 94°10′10″ W)

That airspace extending upward from the surface to and including 3,800 feet MSL within a 4-mile radius of Drake Field, and within 1.1 miles each side of the 181° bearing from the airport from the 4-mile radius to 5.9 miles south of the airport, and within 1 mile each side of the 172° bearing from the Drake Field: RWY 34-LOC from the 4-mile radius to 4.9 miles south of the Drake Field: RWY 34-LOC, and within 1 mile each side of the 347° bearing from the airport from the 4-mile radius to 4.9 miles north of the airport. This Class E airspace area is effective during the specific dates and times established in advance by a Notice to Airmen. The effective date and time will thereafter be continuously published in the Chart Supplement.

Paragraph 6004 Class E Airspace Designated as an Extension of Class D and Class E Surface Areas.

* * * * *

ASW OK E4 Fayetteville, AR [Removed]

Issued in Fort Worth, Texas, on November 26, 2018.
Walter Tweedy,
Acting Manager, Operations Support Group, ATO Central Service Center.

[FR Doc. 2018-26498 Filed 12-7-18; 8:45 am]

BILLING CODE 4910-13-P